DEPARTMENT OF AGRICULTURE

Forest Service

Information Collection: Public Lands Corps Participant Tracking Sheet

AGENCY: Forest Service, USDA.

ACTION: Notice; request for comment.

SUMMARY: In accordance with the Paperwork Reduction Act of 1995, the Forest Service is seeking comments from all interested individuals and organizations on a new information collection request through the Public Lands Corps Participant Tracking Sheet.

DATES: Comments must be received in writing on or before November 20, 2017 to be assured of consideration. Comments received after that date will be considered to the extent practicable.

ADDRESSES: Comments concerning this notice should be addressed to Volunteers & Service Program Manager, USDA Forest Service, Attn: Recreation, Heritage and Volunteer Resources, 1400 Independence Ave. SW., Mailstop Code: 1125, Washington, DC 20250-1125. Comments also may be submitted via facsimile to 703-605-5131 or by email to: 21CSC@fs.fed.us.

The public may inspect comments received at the Office of the Director, Recreation, Heritage and Volunteer Resources, 5th Floor South West, Sidney R. Yates Federal Building, 201 14th Street SW., Washington, DC, during normal business hours. Visitors are encouraged to call ahead to 202-205-0560 to facilitate entry to the building.

FOR FURTHER INFORMATION CONTACT: Merlene Mazyck, Volunteers & Service, 202-205-0560. Individuals who use telecommunication devices for the deaf (TDD) may call the Federal Relay Service (FRS) at 1-800-877-8339 between 8 a.m. and 8 p.m. Eastern Standard Time, Monday through Friday.

SUPPLEMENTARY INFORMATION:

Title: Public Lands Corps Participant Tracking Sheet.

OMB Number: 0596-NEW.

Type of Request: New Information Collection Request.

Abstract: The Public Lands Corps is a work and education program involving the nation's land management agencies, conservation and service corps, and environmental organizations that contribute to the rehabilitation, restoration, and repair of public lands resources and infrastructures. Public Lands Corps projects provide opportunities for community and national public service, work experience and training for young people who are unemployed or underemployed persons, students, recent graduates, and others with an interest in natural and cultural resources careers. The law authorizing this program includes 16 U.S.C. 1721-1726, Chapter 37—Public Lands Corps and Resource Assistants Program (Public Lands Corps Healthy Forests Restoration Act of 2005 [Pub. L. 109-154] as amended in 1993, hereafter referred to as “the Act.”)

The Agency has developed a tracking sheet (FS-1800-0026, Public Lands Corps Participant Tracking Sheet) to support the effective management of the Public Lands Corps Program. The utilization of the Public Lands Corps Tracking Sheet will assist the Agency in ensuring qualified program participants lawfully receive a certificate of non-competitive hiring eligibility, which can be used to apply to Forest Service merit announcements on USAJobs. All partners managing Public Lands Corps projects are required to submit a Public Lands Corps Participant Tracking Sheet to Merlene Mazyck by electronic forms through secure email to 21CSC@fs.fed.us. This email address is monitored daily. In the future, it is intended that partners will be required to electronically submit tracking sheets through a Federal Land Management agency web-based project management system. Public Lands Corps submission is requested on a quarterly basis unless otherwise defined.

The use of the Public Lands Corps Participant Tracking Sheet ensures uniform collection of information regarding tracking and monitoring participant engagement in order to determine adherence to requirements for non-competitive hiring eligibility as defined in the Act. The data—such as participant demographic information, and project information—collected will allow the Forest Service, and other Federal Land Management Agencies, to monitor the effectiveness of Agency efforts to meet the intent of the Act, and engage under-represented populations in natural and cultural resource conservation, development and scientific research work, and education on public lands. This information collection request will ensure that partners maintain a record of all Public Lands Corps agreements established with Federal Land Management Agencies, participant demographics and education, project information and work hours, project locations and dates, and status of noncompetitive eligibility certification.

Type of Respondents: Non-profit Organizations and Non-Federal Governmental entities.

Estimated Annual Number of Respondents: 350.

Estimated Annual Number of Responses per Respondent: 4; quarterly submission.

Estimated Total Annual Responses: 1,400.

Estimated Time per Response: 6 hours per response.

Estimated Total Annual Burden on Respondents: 8,400 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection methods or forms of information technology.

All comments received in response to this notice, including names and addresses when provided, will be a matter of public record. Comments will be summarized and included in the submission of the information collection request to Office of Management and Budget.

Dated: September 5, 2017.
Glenn Casamassa,
Associate Deputy Chief, National Forest System.

[FR Doc. 2017-20001 Filed 9-19-17; 8:45 am]

BILLING CODE 3411-15-P